COMMITTEE FOR PURCHASE FROM PEOPLE WHO ARE BLIND OR SEVERELY DISABLED

Procurement List; Addition And Deletions

AGENCY: Committee for Purchase From People Who Are Blind or Severely Disabled.

ACTION: Addition to and Deletions from the Procurement List.

SUMMARY: This action adds a product to the Procurement List that will be furnished by a nonprofit agency employing persons who are blind or have other severe disabilities, and deletes products and a service from the Procurement List previously furnished by such agencies.

DATES: Effective Date: 3/27/2016.

ADDRESSES: Committee for Purchase From People Who Are Blind or Severely Disabled, 1401 S. Clark Street, Suite 715, Arlington, Virginia, 22202-4149.

FOR FURTHER INFORMATION CONTACT: Patricia Briscoe, Telephone: (703) 603-7740, Fax: (703) 603-0655, or email CMTEFedReg@AbilityOne.gov.

SUPPLEMENTARY INFORMATION:

Addition

On 12/18/2015 (80 FR 79031-79032), the Committee for Purchase From People Who Are Blind or Severely Disabled published notice of proposed addition to the Procurement List.

After consideration of the material presented to it concerning capability of qualified nonprofit agency to provide the product and impact of the addition on the current or most recent contractors, the Committee has determined that the product listed below is suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organization that will furnish the product to the Government.

2. The action will result in authorizing small entities to furnish the product to the Government.

3. There are no known regulatory alternatives which would accomplish the objectives of the Javits-Wagner-O'Day Act (41 U.S.C. 8501-8506) in connection with the product proposed for addition to the Procurement List.

End of Certification

Accordingly, the following product is added to the Procurement List:

Product

NSN—Product Name: 5180-00-596-1501—Pipefitter's Tool Kit

Mandatory Source of Supply: Industries for the Blind, Inc., West Allis, WI

Mandatory for: U.S. Army

Contracting Activity: U.S. Army Tank and Automotive Command, Warren, MI

Distribution: C-List

Deletions

On 1/15/2016 (81 FR 2198-2199) and 2/5/2016 (81 FR 6241), the Committee for Purchase From People Who Are Blind or Severely Disabled published notices of proposed deletions from the Procurement List.

After consideration of the relevant matter presented, the Committee has determined that the products and service listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and service to the Government.

3. There are no known regulatory alternatives which would accomplish the objectives of the Javits-Wagner-O'Day Act (41 U.S.C. 8501-8506) in connection with the products and service deleted from the Procurement List.

End of Certification

Accordingly, the following products and service are deleted from the Procurement List:

Products

NSNs—Product Names:

7195-01-567-9528—Bulletin Bar, Cork, Map Rail, 36″ x 1″, Aluminum Frame

7195-01-567-9529—Bulletin Board, Cork, Map Rail, 48″ x 1″, Aluminum Frame

7195-01-567-9530—Bulletin Bar, Cork, Map Rail, 24″ x 1″, Aluminum Frame

Mandatory Source of Supply: The Lighthouse for the Blind, Inc. (Seattle Lighthouse), Seattle, WA

Contracting Activities: Department of Veterans Affairs, NAC, Hines, IL; General Services Administration, FSS Household and Industrial Furniture, Arlington, VA

NSNs—Product Names:

7105-00-260-1390—Mirror, Glass, 11⅜ x 13⅜′

7105-00-264-5997—Mirror, Glass, 20 x 60′

Mandatory Source of Supply: UNKNOWN

Contracting Activity: General Services Administration, Fort Worth, TX

NSNs—Product Names:

8415-00-NSH-1276—Gortex, Women's Shell Trousers—Small/Short

8415-00-NSH-1277—Gortex, Women's Shell Trousers—Small/Long

8415-00-NSH-1278—Gortex, Women's Shell Trousers -Medium/Short

8415-00-NSH-1279—Gortex, Women's Shell Trousers—Medium/Long

8415-00-NSH-1280—Gortex, Women's Shell Trousers—Large/Short

8415-00-NSH-1281—Gortex, Women's Shell Trousers—Large/Long

8415-00-NSH-1282—Gortex, Women's Shell Trousers—Xlarge/Short

8415-00-NSH-1283—Gortex, Women's Shell Trousers—Xlarge/Long

8415-00-NSH-0591—Trousers, MPS, Navy, Women's, Sage Green, XSR

8415-00-NSH-0592—Trousers, MPS, Navy, Women's, Sage Green, SR

8415-00-NSH-0593—Trousers, MPS, Navy, Women's, Sage Green, MR

8415-00-NSH-0594—Trousers, MPS, Navy, Women's, Sage Green, LR

8415-00-NSH-0595—Trousers, MPS, Navy, Women's, Sage Green, XLR

8415-00-NSH-0994—Trousers, Shell Outer Layer, MPS, Navy, Women's, Black, X Small Short

8415-00-NSH-0995—Trousers, Shell Outer Layer, MPS, Navy, Women's, Black, X Small Long

8415-00-NSH-0547—Gortex Shell Jacket, MPS, Army, Men's, Sage Green, XSR

8415-00-NSH-0548—Gortex Shell Jacket, MPS, Army, Men's, Sage Green, SR

8415-00-NSH-0549—Gortex Shell Jacket, MPS, Army, Men's, Sage Green, MR

8415-00-NSH-0550—Gortex Shell Jacket, MPS, Army, Men's, Sage Green, ML

8415-00-NSH-0551—Gortex Shell Jacket, MPS, Army, Men's, Sage Green, LR

8415-00-NSH-0552—Gortex Shell Jacket, MPS, Army, Men's, Sage Green, LL

8415-00-NSH-0553—Gortex Shell Jacket, MPS, Army, Men's, Sage Green, XLR

8415-00-NSH-0554—Gortex Shell Jacket, MPS, Army, Men's, Sage Green, XLL

8415-00-NSH-0877—Gortex Shell Jacket, MPS, Navy, Men's, Sage Green, X Small Short

8415-00-NSH-0878—Gortex Shell Jacket, MPS, Navy, Men's, Sage Green, X Small Long

8415-00-NSH-0879—Gortex Shell Jacket, MPS, Navy, Men's, Sage Green, Small Short

8415-00-NSH-0880—Gortex Shell Jacket, MPS, Navy, Men's, Sage Green, Small Long

8415-00-NSH-0881—Gortex Shell Jacket, MPS, Navy, Men's, Sage Green, Medium Short

8415-00-NSH-0882—Gortex Shell Jacket, MPS, Navy, Men's, Sage Green, Large Short

8415-00-NSH-0883—Gortex Shell Jacket, MPS, Navy, Men's, Sage Green, X Large Short

8415-00-NSH-0555—Gortex Shell Jacket, MPS, Army, Women's, Sage Green, XSR

8415-00-NSH-0556—Gortex Shell Jacket, MPS, Army, Women's, Sage Green, SR

8415-00-NSH-0557—Gortex Shell Jacket, MPS, Army, Women's, Sage Green, MR

8415-00-NSH-0558—Gortex Shell Jacket, MPS, Army, Women's, Sage Green, LR

8415-00-NSH-0559—Gortex Shell Jacket, MPS, Army, Women's, Sage Green, XLR

8415-00-NSH-0884—Gortex Shell Jacket, MPS, Navy, Women's, Sage Green, X Small Short

8415-00-NSH-0885—Gortex Shell Jacket, MPS, Navy, Women's, Sage Green, X Small Long

8415-00-NSH-0886—Gortex Shell Jacket, MPS, Navy, Women's, Sage Green, Small Short

8415-00-NSH-0887—Gortex Shell Jacket, MPS, Navy, Women's, Sage Green, Small Long

8415-00-NSH-0888—Gortex Shell Jacket, MPS, Navy, Women's, Sage Green, Medium Short

8415-00-NSH-0889—Gortex Shell Jacket, MPS, Navy, Women's, Sage Green, Medium Long

8415-00-NSH-0890—Gortex Shell Jacket, MPS, Navy, Women's, Sage Green, Large Short

8415-00-NSH-0891—Gortex Shell Jacket, MPS, Navy, Women's, Sage Green, Large Long

8415-00-NSH-0892—Gortex Shell Jacket, MPS, Navy, Women's, Sage Green, X Large Short

8415-00-NSH-0893—Gortex Shell Jacket, MPS, Navy, Women's, Sage Green, X Large Long

8415-00-NSH-0583—Gortex Shell Trousers, MPS, Navy, Men's, Sage Green, XSR

8415-00-NSH-0584—Gortex Shell Trousers, MPS, Navy, Men's, Sage Green, SR

8415-00-NSH-0585—Gortex Shell Trousers, MPS, Navy, Men's, Sage Green, MR

8415-00-NSH-0586—Gortex Shell Trousers, MPS, Navy, Men's, Sage Green, ML

8415-00-NSH-0587—Gortex Shell Trousers, MPS, Navy, Men's, Sage Green, LR

8415-00-NSH-0588—Gortex Shell Trousers, MPS, Navy, Men's, Sage Green, LL

8415-00-NSH-0589—Gortex Shell Trousers, MPS, Navy, Men's, Sage Green, XLR

8415-00-NSH-0590—Gortex Shell Trousers, MPS, Navy, Men's, Sage Green, XLL

8415-00-NSH-0596—Gortex Shell Trousers, MPS, Navy, Men's, Sage Green, LS

8415-00-NSH-0991—Gortex Shell Trousers, Shell Outer Layer, MPS, Navy, Men's, Black, X Small Short

8415-00-NSH-0992—Gortex Shell Trousers, Shell Outer Layer, MPS, Navy, Men's, Black, X Small Long

8415-00-NSH-0993—Gortex Shell Trousers, Shell Outer Layer, MPS, Navy, Men's, Black, Small Short

8415-00-NSH-0996—Gortex Shell Trousers, Shell Outer Layer, MPS, Navy, Men's, Black, Small Long

8415-00-NSH-0997—Gortex Shell Trousers, Shell Outer Layer, MPS, Navy, Men's, Black, Medium Short

8415-00-NSH-0998—Gortex Shell Trousers, Shell Outer Layer, MPS, Navy, Men's, Black, X Large Short

Mandatory Sources of Supply: Group Home Foundation, Inc., Belfast, ME; Peckham Vocational Industries, Inc., Lansing, MI

Contracting Activities: Naval Air Systems Command, Patuxent River, MD; Army Contracting Command—Aberdeen Proving Ground, Natick Contracting Division, Natick, MA

Service

Service Type: Parts Sorting Service

Mandatory for: Oklahoma City Air Logistics Center, Bldg 3, Suite 20, Tinker AFB, OK

Mandatory Source of Supply: NewView Oklahoma, Inc., Oklahoma City, OK

Contracting Activity: Dept of the Air Force, FA7014 AFDW PK, Andrews AFB, MD

Patricia Briscoe,
Deputy Director, Business Operations, (Pricing and Information Management).

[FR Doc. 2016-04175 Filed 2-25-16; 8:45 am]

BILLING CODE 6353-01-P